INTERNATIONAL TRADE COMMISSION

Sunshine Act Meeting

AGENCY HOLDING THE MEETING: United States International Trade Commission.

TIME AND DATE: July 7, 2000 at 11 a.m.

PLACE: Room 101, 500 E Street S.W., Washington, DC 20436, Telephone: (202) 205-2000.

STATUS: Open to the public.

MATTERS TO BE CONSIDERED:

1. Agenda for future meeting: None.

2. Minutes.

3. Ratification List.

4. Inv. Nos. 701-TA-178 and 731-TA-636-638 (Review) (Stainless Steel Wire Rod from Brazil, France, India, and Spain)—briefing and vote. (The Commission will transmit its determination to the Secretary of Commerce on July 18, 2000.)

5. Inv. Nos. 731-TA-457-A-D (Review) (Heavy Forged Handtools from China)—briefing and vote. (The Commission will transmit its determination to the Secretary of Commerce on July 18, 2000.)

6. Outstanding action jackets: None.

In accordance with Commission policy, subject matter listed above, not disposed of at the scheduled meeting, may be carried over to the agenda of the following meeting.

Issued: June 26, 2000.
By order of the Commission.
Donna R. Koehnke,
Secretary.

[FR Doc. 00-16491 Filed 6-26-00; 2:10 pm]

BILLING CODE 7020-02-P